DEPARTMENT OF THE INTERIOR

National Park Service

[N6833; NPS-WASO-NAGPRA-NPS0041694; PPWOCRADN0-PCU00RP14.R50000]

Notice of Intended Repatriation: Shelburne Museum, Shelburne, VT

AGENCY: National Park Service, Interior.

ACTION: Notice.

SUMMARY: In accordance with the Native American Graves Protection and Repatriation Act (NAGPRA), Shelburne Museum intends to repatriate a certain cultural item that meets the definition of a sacred object and that has a cultural affiliation with the Indian Tribes or Native Hawaiian organizations in this notice.

DATES: Repatriation of the cultural item in this notice may occur on or after February 6, 2026.

ADDRESSES: Send additional, written requests for repatriation of the cultural item in this notice to Alexander Kikutis, Shelburne Museum, P.O. Box 10, Shelburne, VT 05482, email AKikutis@ShelburneMuseum.org.

SUPPLEMENTARY INFORMATION: This notice is published as part of the National Park Service's administrative responsibilities under NAGPRA. The determinations in this notice are the sole responsibility of Shelburne Museum, and additional information on the determinations in this notice, including the results of consultation, can be found in the summary or related records. The National Park Service is not responsible for the determinations in this notice.

Abstract of Information Available

A total of one cultural item has been requested for repatriation. The sacred object is a Cochiti Pueblo Canteen (2023-5.7). In April 2023, Shelburne Museum received a donation of Pueblo pottery. Teressa Perry, widow of Anthony Perry, donated this item. Ms. Perry inherited this item from her husband, Anthony Perry, in 2017. Mr. Perry purchased this item from Robert V. Gallegos an antiques dealer in Albuquerque, NM.

Determinations

The Shelburne Museum has determined that:

• The one sacred object described in this notice is a specific ceremonial object needed by a traditional Native American religious leader for present-day adherents to practice traditional Native American religion, according to the Native American traditional knowledge of a lineal descendant, Indian Tribe, or Native Hawaiian organization.

• There is a connection between the cultural item described in this notice and the Pueblo of Cochiti, New Mexico.

Requests for Repatriation

Additional, written requests for repatriation of the cultural item in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after February 6, 2026. If competing requests for repatriation are received, Shelburne Museum must determine the most appropriate requestor prior to repatriation. Requests for joint repatriation of the cultural item are considered a single request and not competing requests. Shelburne Museum is responsible for sending a copy of this notice to the Indian Tribes and Native Hawaiian organizations identified in this notice and to any other consulting parties.

Authority: Native American Graves Protection and Repatriation Act, 25 U.S.C. 3004 and the implementing regulations, 43 CFR 10.9.

Dated: December 18, 2025.
Melanie O'Brien,
Manager, National NAGPRA Program.

[FR Doc. 2026-00064 Filed 1-6-26; 8:45 am]

BILLING CODE 4312-52-P